DEPARTMENT OF COMMERCE

International Trade Administration

[A-570-836]

Glycine From the People's Republic of China: Final Results of the Expedited Sunset Review of the Antidumping Duty Order

AGENCY: Enforcement and Compliance, International Trade Administration, Department of Commerce.

SUMMARY: As a result of this sunset review, the Department of Commerce (Commerce) finds that revocation of the antidumping duty (AD) order on glycine from the People's Republic of China (China) would likely lead to continuation or recurrence of dumping at the levels indicated in the “Final Results of Sunset Review” section of this notice.

DATES: Applicable April 29, 2022.

FOR FURTHER INFORMATION CONTACT: Harrison Tanchuck, AD/CVD Operations, Office VI, Enforcement and Compliance, International Trade Administration, U.S. Department of Commerce, 1401 Street and Constitution Avenue NW, Washington, DC 20230; telephone: (202) 482-7421.

SUPPLEMENTARY INFORMATION:

Background

On March 29, 1995, Commerce published the AD order on glycine from China.¹ On January 3, 2022, Commerce published a notice of initiation of the fifth sunset review of the Order, pursuant to section 751(c)(2) of the Tariff Act of 1930, as amended (the Act).² On January 10, 2022, Commerce received a timely notice of intent to participate in this sunset review from GEO Specialty Chemicals, Inc. (domestic interested party) within the deadline specified in 19 CFR 351.218(d)(1)(i).³ The domestic interested party claimed interested party status under section 771(9)(C) of the Act, as a manufacturer of a domestic like product in the United States.

¹ See Antidumping Duty Order: Glycine from the People's Republic of China, 60 FR 16116 (March 29, 1995) (Order).

² See Initiation of Five-Year (Sunset) Reviews, 87 FR 00076 (January 3, 2022) (Initiation of Sunset).

³ See Domestic Interested Party's Letter, “Sunset Review (5th Review) of the Antidumping Duty Order on Glycine from the People's Republic of China: Domestic Interested Party's Notification of Intent to Participate,” dated January 10, 2022.

Commerce received a complete substantive response from the domestic interested party within the 30-day deadline specified in 19 CFR 351.218(d)(3)(i).⁴ We received no substantive responses from respondent interested parties. As a result, pursuant to section 751(c)(3) of the Act and 19 CFR 351.218(e)(1)(ii)(C)(2), Commerce conducted an expedited (120-day) sunset review of the Order.

⁴ See Domestic Interested Party's Letter, “Sunset Review (5th Review) of the Antidumping Duty Order on Glycine from the People's Republic of China: Substantive Response to Notice of Initiation,” dated February 1, 2022.

Scope of the Order

The merchandise subject to the Order is glycine. These imports are currently classified under subheading 2922.49.4020 of the Harmonized Tariff Schedule of the United States (HTSUS). The HTSUS subheading is provided for convenience and customs purposes. A full description of the scope of the Order is contained in the Issues and Decision Memorandum.⁵ The written description of the scope of the Order is dispositive.

⁵ See Memorandum, “Issues and Decision Memorandum for the Expedited Sunset Review of the Antidumping Duty Order on Glycine from the People's Republic of China,” dated concurrently with, and hereby adopted by, this notice (Issues and Decision Memorandum).

Analysis of Comments Received

All issues raised in this review are addressed in the Issues and Decision Memorandum, including the likelihood of continuation or recurrence of dumping, and the magnitude of the margins of dumping likely to prevail if this Order were revoked. The Issues and Decision Memorandum is a public document and is on file electronically via Enforcement and Compliance's Antidumping and Countervailing Duty Centralized Electronic Service System (ACCESS). ACCESS is available to registered users at https://access.trade.gov. A list of topics discussed in the Issues and Decision Memorandum is included as the appendix to this notice. In addition, a complete version of the Issues and Decision Memorandum can be accessed at https://access.trade.gov/public/FRNoticesListLayout.aspx.

Final Results of Sunset Review

Pursuant to sections 751(c)(1) and 752(c)(3) of the Act, we determine that revocation of the Order would be likely to lead to continuation or recurrence of dumping, and that the magnitude of the margins of dumping likely to prevail would be up to 155.89 percent.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing these results and notice in accordance with sections 751(c), 752(c), and 777(i)(1) of the Act and 19 CFR 351.218.

Dated: April 25, 2022.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2022-09242 Filed 4-28-22; 8:45 am]

BILLING CODE 3510-DS-P